DEPARTMENT OF THE INTERIOR

Minerals Management Service

Outer Continental Shelf (OCS) Policy Committee; Notice and Agenda for Meeting

AGENCY: Minerals Management Service, Interior.

ACTION: Notice of Meeting.

SUMMARY: The OCS Policy Committee will meet at the Loews Annapolis Hotel in Annapolis, Maryland.

DATES: Wednesday, February 21, 2007, 8:30 a.m. to 4 p.m. and Thursday, February 22, 2007, from 8 a.m. to 1:15 p.m.

ADDRESSES: The Loews Annapolis Hotel, 126 West Street, Annapolis, Maryland 21401, telephone (410) 263-7777.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal states, local government, environmental community, industry and other parties involved with the OCS Program. It provides policy advice to the Secretary of the Interior through the Director of the MMS on all aspects of leasing, exploration, development, and protection of OCS resources.

The agenda for Wednesday, February 21 will cover the following principal subjects:

OCS Alternative Energy and Alternative Use (AEAU) Program. This presentation will provide an update on the MMS's OCS AEAU Program that is being developed to manage access and balance competing uses of the OCS while ensuring appropriate environmental safeguards. This management authority was granted to the Secretary of the Interior under the Energy Policy Act of 2005. The OCS Policy Committee's Alternative Energy/Use Subcommittee will also report on its activities and future plans.

Update on the “Proposed Program, Outer Continental Shelf Oil and Gas Leasing Program, 2007-2012.” This presentation will provide an update on the leasing program and the next phase in the 5-year process. The OCS Policy Committee's 5-Year OCS Oil and Gas Leasing Program Subcommittee will also report on its activities and future plans.

State Members' Round Table Discussion of Offshore Energy Issues. State representatives to the OCS Policy Committee will discuss offshore energy development (conventional and alternative) issues from the perspective of their respective states. This session will provide Committee members, MMS representatives, and other participants with a better and more comprehensive understanding of the various issues as perceived by the states.

MMS Regional Issues. The Regional Directors will highlight activities off the California and Alaska coasts.

The agenda for Thursday, February 22 will cover the following principal subjects:

OCS Scientific Committee Update. This presentation will address the current activities of the OCS Scientific Committee and its subcommittees.

Gulf of Mexico (GOM) Oil and Gas Situation. This presentation will provide a summary and overview of the GOM oil and gas situation, including the new GOM Energy Security Act. It will also address industry recovery from hurricanes and new requirements; and the petroleum system of the lower tertiary.

Coastal Impact Assistance Program (CIAP). This presentation will provide an update on the MMS's CIAP which was authorized under the Energy Policy Act of 2005. The CIAP will distribute $1 billion to coastal states and localities for approved projects related to the conservation, restoration, or protection of coastal areas, wildlife, and natural resources. The Committee will also hear from a recipient state, Louisiana, on the development of its state plan.

OCS Natural Gas Production Issues. This presentation will address the decline in OCS gas production and prospects for production in the future; gas supply issues from the industrial consumer perspective; and reductions in the rig count, access, and related issues.

Marine Minerals Program. This presentation will address coastal environments and the increasing need for sand and gravel; environmental studies; post-GOM hurricane sand resource identification projects; Florida and Louisiana Sand Management Working Groups; and non-sand and gravel projects. The OCS Policy Committee's Hard Minerals Subcommittee will also report on its activities and future plans.

Committee Business. The Committee will review current operating procedures and elect officers.

The meeting is open to the public. Approximately 100 visitors can be accommodated on a first-come-first-served basis.

Upon request, interested parties may make oral or written presentations to the OCS Policy Committee. Such requests should be made no later than February 15, 2007, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, Pub. L. 92-463, 5 U.S.C. Appendix 1, and the Office of Management and Budget's Circular No. A-63, Revised.

Dated: January 26, 2007.
L. Keith Good,
Acting Associate Director for Offshore Minerals Management.

[FR Doc. E7-2297 Filed 2-9-07; 8:45 am]

BILLING CODE 4310-MR-P